DEPARTMENT OF LABOR

Employment and Training Administration

Proposed Collection of the ETA 9048, Worker Profiling and Reemployment Services Activity and the ETA 9049, Worker Profiling and Reemployment Services Outcomes; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the collection of the ETA 9048, Worker Profiling and Reemployment Services Activity, and the ETA 9049, Worker Profiling and Reemployment Services Outcomes. A copy of the proposed information collection request (ICR) can be obtained by contacting the office listed below in the ADDRESSES section of this notice or by accessing: http://www.doleta.gov/OMBCN/OMBControlNumber.cfm.

DATES: Written comments must be submitted to the office listed in the ADDRESSES section below on or before December 26, 2006.

ADDRESSES: Diane Wood, Office of Workforce Security, 200 Constitution Ave. NW., Room S-4231, Washington, DC 20210; telephone 202-693-3212; fax 202-693-3975 (these are not toll-free numbers) or e-mail wood.diane@dol.gov.

SUPPLEMENTARY INFORMATION: I. Background: The Worker Profiling and Reemployment Services (WPRS) program allows for the targeting of reemployment services to those most in need of services. The ETA 9048 and ETA 9049 are the only means of tracking the activities in the WPRS program. The ETA 9048 reports on the numbers and flows of claimants at the various stages of the WPRS system from initial profiling through the completion of specific reemployment services. This allows for evaluation and monitoring of the program. The ETA 9049 gives a limited, but inexpensive, look at the reemployment experience of profiled claimants who were referred to services by examining the state's existing wage record files to see in which quarter the referred individuals became employed, what wages they earned and whether they have changed industries.

II. Desired Focus of Comments: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: This collection continues to be needed to evaluate and monitor the WPRS program.

Type of Review: Extension without change.

Agency: Employment and Training Administration.

Title: Worker Profiling and Reemployment Services Activity, and Worker Profiling and Reemployment Services Outcomes.

OMB Number: 1205-0353.

Agency Number: ETA 9048 and ETA 9049.

Affected Public: State Governments.

Total Respondents: 53.

Frequency: Quarterly.

Total Responses: 424.

Average Time per Response: 15 minutes.

Estimated Total Burden Hours: 106 hours.

Total Burden Cost (operating/maintaining): $0.

Comments submitted in response to this comment request will be summarized and/or included in the request for Office of Management and Budget approval of the information collection request and will become a matter of public record.

Dated: October 18, 2006.
Cheryl Atkinson,
Administrator, Office of Workforce Security.

[FR Doc. E6-18030 Filed 10-26-06; 8:45 am]

BILLING CODE 4510-30-P